DEPARTMENT OF THE INTERIOR

Fish and Wildlife Service

50 CFR Part 17

RIN 1018-AI18

Endangered and Threatened Wildlife and Plants; Listing the Carson Wandering Skipper as Endangered

AGENCY: Fish and Wildlife Service, Interior.

ACTION: Proposed rule; notice of reopening of comment period, and notice of public informational meeting.

SUMMARY: We, the U.S. Fish and Wildlife Service (Service), announce the reopening of the public comment period for the proposed rule to list the Carson wandering skipper (Pseudocopaeodes eunus obscurus) as endangered. The comment period is reopened to allow additional time for all interested parties to submit written comments on the proposal. Comments previously submitted need not be resubmitted as they already have been incorporated into the public record and will be fully considered in the final rule. Additionally, we are announcing that a public informational meeting will be held to share information and answer questions from interested persons regarding the species and the listing proposal.

DATES: We will accept comments until the close of business on June 6, 2002. The public meeting will be held on May 22, 2002, from 5 p.m. to 7 p.m. at the Lassen County Fairgrounds Commercial Building in Susanville, California.

ADDRESSES: Copies of the draft proposal are available on the Internet at: http://endangered.fws.gov/frpubs/01fedreg.htm or by writing to the Field Supervisor, U.S. Fish and Wildlife Service, Nevada Fish and Wildlife Office, 1340 Financial Boulevard, Suite 234, Reno, NV 89502.

If you wish to comment, you may submit your comments and materials concerning this proposal by any one of several methods:

You may submit written comments and information to the Field Supervisor, U.S. Fish and Wildlife Service, Nevada Fish and Wildlife Office, at the above address.

You may also send comments by electronic mail (e-mail) to: fw1renoskipper@r1.fws.gov. See the Public Comments Solicited section below for file format and other information about electronic filing.

You may hand-deliver comments to our Nevada Fish and Wildlife Office, 1340 Financial Boulevard, Suite 234, Reno, NV 89502.

Comments and materials received will be available for public inspection, by appointment, during normal business hours at the above address.

FOR FURTHER INFORMATION CONTACT: Marcy Haworth, Nevada Fish and Wildlife Office, at telephone 775/861-6300; facsimile 775/861-6301.

SUPPLEMENTARY INFORMATION:

Background

The genus Pseudocopaeodes in the family Hesperiidae and subfamily Hesperiinae (grass skippers) contains only one species, Pseudocopaeodes eunus. The Carson wandering skipper (Pseudocopaeodes eunus obscurus) is one of five subspecies in this genus and is locally distributed in grassland habitats on alkaline substrates in eastern California and western Nevada. Currently, it is known from only two populations, one in Washoe County, Nevada, and one in Lassen County, California.

Pursuant to the Endangered Species Act of 1973, as amended (16 U.S.C. 1531 et seq.) (Act), we published an emergency rule to list the Carson wandering skipper as endangered on November 29, 2001 (66 FR 59537). The emergency rule provides immediate Federal protection to this subspecies for a period of 240 days. We also published a proposed rule on November 29, 2001, to list the Carson wandering skipper as endangered under our normal listing procedures (66 FR 59550).

For further information regarding background biological information, previous Federal actions, factors affecting the subspecies, and conservation measures available to the Carson wandering skipper, please refer to our emergency and proposed rules published in the Federal Register on November 29, 2001.

Public Comments Solicited

With this notification, we solicit additional information and comments that may assist us in making a final decision on the proposed rule to list the Carson wandering skipper as endangered. We intend that any final listing action resulting from our proposal will be as accurate and effective as possible. Therefore, we request comments and additional information from the general public, other concerned governmental agencies, the scientific community, industry, or any other interested party concerning this proposed rule. Comments are particularly sought concerning:

(1) The location of any additional populations of this subspecies, and the reasons why any habitat should or should not be determined to be critical habitat pursuant to section 4 of the Act;

(2) Additional information regarding the range, distribution, and population size of this subspecies;

(3) Biological, commercial trade, or other relevant data regarding any threat (or lack thereof) to the Carson wandering skipper; and

(4) Current or planned activities or land use practices that could potentially impact the Carson wandering skipper.

Previously submitted written comments on this proposal need not be resubmitted. If you submit comments by e-mail, please submit them in ASCII file format and avoid the use of special characters and encryption. Please include “Attn: Carson wandering skipper” and your name and return address in your e-mail message. If you do not receive a confirmation from our system that we have received your e-mail message, contact us directly by calling our Nevada Fish and Wildlife Office at telephone number 775/861-6300. Comments and materials received will be available for public inspection, by appointment, during normal business hours at the Nevada Fish and Wildlife Office, at the above address.

Public Meeting

A public informational meeting on the proposed listing of the Carson wandering skipper is scheduled to be held on May 22, 2002, from 5 p.m. to 7 p.m., at the Lassen County Fairgrounds Commercial Building in Susanville, California. Please contact the Nevada Fish and Wildlife Office at the above address with any questions concerning this public meeting.

Author

The primary author of this notice is Marcy Haworth of the Nevada Fish and Wildlife Office (see ADDRESSES section).

Authority: The authority of this action is the Endangered Species Act of 1973, as amended (16 U.S.C. 1531 et seq.).

Dated: April 24, 2002.
Marshall P. Jones, Jr.,
Acting Director, Fish and Wildlife Service.

[FR Doc. 02-11000 Filed 5-6-02; 8:45 am]

BILLING CODE 4310-55-P